DEPARTMENT OF COMMERCE

National Oceanic and Atmospheric Administration

50 CFR Part 665

[Docket No. 110711384-1534-02]

RIN 0648-XA470

Western Pacific Bottomfish and Seamount Groundfish Fisheries; 2011-12 Main Hawaiian Islands Deep 7 Bottomfish Annual Catch Limits and Accountability Measures

AGENCY: National Marine Fisheries Service (NMFS), National Oceanic and Atmospheric Administration (NOAA), Commerce.

ACTION: Final specifications.

SUMMARY: In this rule, NMFS specifies a quota of 325,000 lb of Deep 7 bottomfish in the main Hawaiian Islands for the 2011-12 fishing year, based on an annual catch limit of 346,000 lb. The expected impact of this action is long-term sustainability of Hawaii bottomfish.

DATES: The final specifications are effective October 3, 2011.

ADDRESSES: Copies of the Fishery Ecosystem Plan for the Hawaiian Archipelago and associated Environmental Impact Statement are available from the Western Pacific Fishery Management Council (Council), 1164 Bishop St., Suite 1400, Honolulu, HI 96813, tel 808-522-8220, fax 808-522-8226, or http://www.wpcouncil.org. Copies of the environmental assessment and finding of no significant impact for this action are available from http://www.regulations.gov, or Michael D. Tosatto, Regional Administrator, NMFS Pacific Islands Region (PIR), 1601 Kapiolani Blvd. 1110, Honolulu, HI 96814.

FOR FURTHER INFORMATION CONTACT: Jarad Makaiau, NMFS PIR Sustainable Fisheries, 808-944-2108.

SUPPLEMENTARY INFORMATION: On August 3, 2011, NMFS published proposed specifications that are finalized here, and a request for public comments (76 FR 46719). Additional background information on this action is found in the preamble to the proposed specifications, and is not repeated here.

Through this action, NMFS is specifying a quota (annual catch target, ACT) of 325,000 lb (147,418 kg) for Deep 7 bottomfish in the main Hawaiian Islands (MHI) for the 2011-12 fishing year, based on an annual catch limit (ACL) of 346,000 lb (156,943 kg). The MHI Management Subarea is the portion of U.S. Exclusive Economic Zone around the Hawaiian Archipelago lying to the east of 161°20′ W. longitude. The Deep 7 bottomfish are onaga (Etelis coruscans), ehu (E. carbunculus), gindai (Pristipomoides zonatus), kalekale (P. sieboldii), opakapaka (P. filamentosus), lehi (Aphareus rutilans), and hapuupuu (Epinephelus quernus). The Council recommended the quota and ACL based on the best available scientific, commercial, and other information, taking into account the associated risk of overfishing.

The MHI bottomfish fishery reopens on September 1, 2011. NMFS will monitor the fishery, and if the quota is projected to be reached before August 31, 2012, NMFS will close the non-commercial and commercial fisheries for Deep 7 bottomfish in Federal waters through August 31, 2012. During a fishery closure for Deep 7 bottomfish, no person may fish for, possess, or sell any of these fish in the MHI, except as otherwise authorized by law. Specifically, fishing for, and the resultant possession or sale of, Deep 7 bottomfish by vessels legally registered to Pacific Remote Island Areas bottomfish fishing permits, and conducted in compliance with all laws and regulations, are not affected by the closure. There is no prohibition on fishing for or selling other non-Deep 7 bottomfish species throughout the year. All other management measures continue to apply in the MHI bottomfish fishery.

Comments and Responses

The comment period for the proposed specifications ended on August 18, 2011. NMFS received no comments, and so is adapting the specifications unchanged from the proposal.

Changes From the Proposed Specifications

There are no changes in the final specifications.

Classification

The Regional Administrator, NMFS PIR, determined that this action is necessary for the conservation and management of MHI bottomfish, and that it is consistent with the Magnuson-Stevens Fishery Conservation and Management Act and other applicable laws.

The Chief Counsel for Regulation of the Department of Commerce certified to the Chief Counsel for Advocacy of the Small Business Administration during the proposed specification stage that this action would not have a significant economic impact on a substantial number of small entities. The factual basis for the certification was published in the proposed specifications and is not repeated here. No comments were received regarding this certification. As a result, a regulatory flexibility analysis was not required, and none was prepared.

This action is exempt from review under Executive Order 12866.

Authority: 16 U.S.C. 1801 et seq.

Dated: August 30, 2011.
Samuel D. Rauch III,
Deputy Assistant Administrator for Regulatory Programs, National Marine Fisheries Service.

[FR Doc. 2011-22591 Filed 9-1-11; 8:45 am]

BILLING CODE 3510-22-P